DEPARTMENT OF ENERGY

National Energy Technology Laboratory; “Identification and Demonstration of Preferred Upstream Management Practices II (Pump II) for the Oil Industry'

AGENCY: National Energy Technology Laboratory (NETL), Department of Energy (DOE).

ACTION: Notice of availability of a financial assistance solicitation.

SUMMARY: Notice is hereby given of the intent to issue Financial Assistance Solicitation No. DE-PS26-01BC15300 entitled “Identification and Demonstration of Preferred Upstream Management Practices II (PUMP II) for the Oil Industry.” The Department of Energy (DOE) National Energy Technology Laboratory (NETL), on behalf of its National Petroleum Technology Office (NTPO), seeks cost-shared research and development applications for identification of preferred management practices (PMP) and technology solutions addressing a production barrier in a region and the documentation of these practices for use by the oil industry. Applications will address either the development of public play portfolios addressing a region where the application of preferred geologic and engineering practices will identify significant exploration and development reserves or demonstrations of new methods/protocols for data sharing among operators, organizations and agencies to improve the processing of information necessary for approving and managing the operations of the industry. As in the PUMP I solicitation in 2000, the near-term goal is to advance technology capabilities and to increase current domestic oil production quickly.

An Information Package is available on the NETL's Homepage at http://www.netl.doe.gov/business for viewing and downloading. The Information Package contains general information regarding the proposed solicitation.

DATES: The solicitation will be available on the DOE/NETL's Internet address at http://www.netl.doe.gov/business on or about June 12, 2001.

FOR FURTHER INFORMATION CONTACT: Keith R. Miles, U.S. Department of Energy, National Energy Technology Laboratory, P.O. Box 10940, MS 921-166, Pittsburgh, PA 15236-0940, E-mail Address: miles@netl.doe.gov, Telephone Number: 412/386-5984.

SUPPLEMENTARY INFORMATION: The National Petroleum Technology Office of the Department of Energy (DOE) Office of Fossil Energy (FE) National Energy Technology Lab (NETL) is soliciting cost-shared applications for identification of preferred management practices (PMP) and technology solutions addressing information-related barriers and data-sharing solutions to a production barrier in a region and the documentation of these practices for use by the industry. The near-term goal is to increase current domestic oil production quickly.

The mission of the Department of Energy's Fossil Energy Oil Program is driven by the needs of the oil producers. The overall program is designed to develop unique technologies and processes to locate untapped resources; to extend the life of domestic energy resources; and to reduce well abandonment-all essential to maximizing the production of domestic resources while protecting our environment. The National Petroleum Technology Office's Preferred Upstream Management Practices (PUMP) program as a part of this overall goal is designed to facilitate production of existing oil reserves more quickly without sacrificing efficiency or environmental protection.

Based on prior successful results from demonstrations of under-utilized or advanced technology coupled with reservoir characterization, the DOE Oil Program seeks to demonstrate that the identification and use of PMP can overcome regional constraints to increased production.

The program will accept proposals that combine the identification of public play portfolios using preferred advanced geologic and engineering practices and technology to overcome regional production constraints and aggressive technology transfer that will promote the use of those practices. In addition, the program will accept proposals that demonstrate preferred management practices and technology to encourage data-sharing in the industry and government regulating oil and gas production. Barriers can be identified as technical, physical, regulatory, environmental, or economic. The selected projects are expected to employ the following four (4) strategies in order to have a rapid impact on production: (1) Focus on regions that present the biggest potential for additional oil production quickly, (2) integrate solutions to technological, economic, regulatory, and data constraints, (3) demonstrate the validity of these practices either through field demonstration during the project or documentation of well-run successful past demonstration, and (4) use known technology transfer mechanisms.

Using a regional approach where the projects will have a wide applicability, an integrated approach scheduling tasks along parallel paths to facilitate a quicker response, and operating with existing networks, the production results in the field should be accelerated. The documentation and evaluation of the PMP will be a valuable resource to all producers in the applicable area and possibly other regions as well.

This program expects near-term results and actions that will create data or technological resources suitable for long-term use. Teaming is encouraged and the proposal partners could include, but not be limited to, producers, producer organizations, universities, service companies, State agencies or organizations, non-Federal research laboratories, and Native American Tribes or Corporations. They will demonstrate practices and/or technologies that can increase production, increase cost savings, or rapid returns on the capital investments of the operators. New technologies/processes or under-used but effective applications of existing technologies/processes critical to a region will be demonstrated. The DOE will make publicly available over the Internet the data on preferred practices resulting from this program. The resulting publicly available databases of the preferred practices will be interactive, Internet accessible, should include both technologies and practices, and address constraints in the exploration, production, or environmental areas.

DOE anticipates issuing financial assistance (Cooperative Agreement) awards. DOE reserves the right to support or not support, with or without discussions, any or all applications received in whole or in part, and to determine how may awards will be made. Multiple awards are anticipated. Approximately $3.9 million of DOE funding is planned over a 2 year period for this solicitation. The program seeks to sponsor projects for a single budget/project period of 24 months or less. Due to the low risk and near-term nature of the PUMP program and the potential for a process or technology demonstration, all applicants are required to cost share at a minimum of 50% of the project total. Details of the cost sharing requirement, and the specific funding levels are contained in the solicitation.

Prospective applicants who would like to be notified as soon as the solicitation is available should register at http://www.netl.doe.gov/business. Provide your E-mail address and click on the “Oil & Gas” technology choice located under the heading “Fossil Energy.” Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on June 5, 2001.
Dale A. Siciliano,
Deputy Director, Acquisition and Assistance Division.

[FR Doc. 01-15124 Filed 6-14-01; 8:45 am]

BILLING CODE 6450-01-P